ENVIRONMENTAL PROTECTION AGENCY

[EPA-HQ-OPP-2018-0031 and EPA-HQ-OPP-2018-0139; FRL-9976-24]

Agency Information Collection Activities; Proposed Renewal of Several Currently Approved Collections (EPA ICR Nos. 2491.04 and 2475.03); Comment Request

AGENCY: Environmental Protection Agency (EPA).

ACTION: Notice.

SUMMARY: In compliance with the Paperwork Reduction Act (PRA), this document announces that EPA is planning to submit requests to renew several currently approved Information Collection Request (ICR) to the Office of Management and Budget (OMB). The ICRs are identified in this document by their corresponding titles, EPA ICR numbers, OMB Control numbers, and related docket identification (ID) numbers. Before submitting these ICRs to OMB for review and approval, EPA is soliciting comments on specific aspects of the information collection activities that are summarized in this document. The ICRs and accompanying material are available for public review and comment in the relevant dockets identified in this document for the ICR.

DATES: Comments must be received on or before July 30, 2018.

ADDRESSES: Submit your comments, identified by the ID number for the corresponding ICR as identified in this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Ryne Yarger, Field and External Affairs Division (7506P), Office of Pesticide Programs, Environmental Protection Agency, 1200 Pennsylvania Ave. NW, Washington, DC 20460-0001; telephone number: (703) 605-1193; email address: yarger.ryne@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Submit your comments by the deadline identified under DATES.

6. Identify the docket ID number assigned to the ICR action in the subject line on the first page of your response. You may also provide the ICR title and related EPA and OMB numbers.

III. What do I need to know about PRA?

An Agency may not conduct or sponsor, and a person is not required to respond to, a collection of information subject to PRA approval unless it displays a currently valid OMB control number. The OMB control numbers for the EPA regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

As used in the PRA context, burden is defined in 5 CFR 1320.3(b).

IV. Which ICRs are being renewed?

EPA is planning to submit two currently approved ICRs to OMB for review and approval under the PRA. In addition to specifically identifying the ICRs by title and corresponding ICR, OMB and docket ID numbers, this unit provides summaries of the information collection activities and the Agency's estimated burden. The Supporting Statement for each ICR, a copy of which is available in the corresponding docket, provides a more detailed explanation.

A. Docket ID Number EPA-HQ-OPP-2018-0031

Title: Agricultural Worker Protection Standard Training, Notification and Recordkeeping.

ICR number: EPA ICR No. 2491.04.

OMB control number: OMB Control No. 2070-0190.

ICR status: The approval for this ICR is scheduled to expire on January 31, 2019.

Abstract: This ICR estimates the recordkeeping and third-party response burden of paperwork activities that covers the information collection requirements contained in the Worker Protection Standard (WPS) regulations at 40 CFR part 170. These requirements were updated in a 2015 Final Rule (80 FR 67495, November 2, 2015) that amended 40 CFR part 170.

Prior to the regulatory update, the WPS regulations already had provisions for training and notification of pesticide-related information for workers who enter pesticide-treated areas after pesticide application to perform crop-related tasks, as well as for handlers who mix, load, and apply pesticides. Agricultural employers and commercial pesticide handling establishments (CPHEs) are responsible for providing required training, notifications and information to their employees to ensure worker and handler safety. The changes to the regulation in 2015 improved protections and included revisions to many of the provisions as well as the addition of new requirements. The regulation now includes expanded and more frequent training for workers and handlers, improved posting of pesticide-treated areas, additional information for workers before they enter a pesticide-treated area while a restricted entry interval (REI) is in effect, access to more general and application-specific information about pesticides used on the establishment, and recordkeeping of training to improve enforceability and compliance.

Burden statement: The annual public reporting and recordkeeping burden for this collection of information is estimated to average 6 minutes per response. The ICR, a copy of which is available in the docket, provides a detailed explanation of this estimate, which is only briefly summarized here:

Respondents/Affected entities: Respondents affected by the collection activities under this ICR are agricultural employers on agricultural establishments, including employers in farms as well as in nursery, forestry, and greenhouse establishments.

Estimated total number of potential respondents: Approximately 985,000 agricultural establishments and approximately 1,995,000 agricultural workers/handlers.

Frequency of response: Annually or on occasion, depending on the activity.

Estimated total average number of responses for each respondent: Varies.

Estimated total annual burden hours: 10,448,160 hours.

Estimated total annual costs: $433,264,055. This includes an estimated burden cost of $433,264,055 and an estimated cost of $0 for non-burden hour paperwork costs, e.g., investment or maintenance and operational costs.

Changes in the estimates from the last approval: There is no change in the total estimated annual respondent burden from the currently approved ICR to the renewal ICR because the estimated number of respondents for the WPS are based primarily on data EPA obtains from the USDA's Census of Agriculture, with the most recent being the 2012 Census. Therefore, the estimated number of potential respondents has remained unchanged until the next available census.

B. Docket ID Number EPA-HQ-OPP-2018-0139

Title: Labeling Requirements for Certain Minimum Risk Pesticides under FIFRA Section 25(b).

ICR number: EPA ICR No. 2475.03.

OMB control number: OMB Control No. 2070-0187.

ICR status: The approval for this ICR is scheduled to expire on February 28, 2019.

Abstract: This information collection request documents the PRA burden for the labeling requirements for certain minimum risk pesticide products exempt from Federal Insecticide, Fungicide, and Rodenticide Act (FIFRA) registration under 40 CFR 152.25(f). These requirements were updated in the final rule entitled: Pesticides; Revisions to Minimum Risk Exemption (80 FR 80653; December 28, 2015).

Under 40 CFR 152.25(f), EPA has exempted from the requirement of FIFRA registration certain pesticide products if they are composed of specified ingredients and labeled accordingly. EPA created the exemption for minimum risk pesticides to eliminate the need for industry or business to expend significant resources to apply for and maintain regulated products that are deemed to be of minimum risk to human health and the environment. In addition, exempting such products freed Agency resources to focus on evaluating formulations whose toxicity was less well characterized, or was of higher toxicity.

The 2015 Final Rule reorganized the ingredients lists and added specific chemical identifiers to clarify to manufacturers, the public, and Federal, state, and tribal inspectors the specific chemical substances that are permitted in minimum risk pesticide products. EPA also modified the label requirements to require the use of specific label display names of ingredients and to require producer contact information on the label. The primary goal of this rulemaking was to clarify the conditions of exemption for minimum risk pesticides by clarifying the specific ingredients that are permitted in minimum risk pesticide products and to provide company contact information on the label. The previous version of this ICR covered the paperwork burdens associated with existing products updating their labels to comply with the new requirements during the 2015 Final Rule's compliance period. EPA anticipates that those burdens have been realized, and is now accounting for the potential burden for new products coming into the market.

Burden statement: The annual public reporting and recordkeeping burden for this collection of information is estimated to average 5.5 hours per response. The ICR, a copy of which is available in the docket, provides a detailed explanation of this estimate, which is only briefly summarized here:

Respondents/Affected entities: Entities potentially affected by this ICR include individuals or entities engaged in activities related to the manufacturing of minimum risk pesticide products. Distributors, retailers, and users of minimum risk pesticides may also be affected, as many of these companies also manufacture minimum risk pesticide products.

Estimated total number of potential respondents: 49.

Frequency of response: On occasion.

Estimated total average number of responses for each respondent: 5.

Estimated total annual burden hours: 478.5 hours.

Estimated total annual costs: $52,202. This includes an estimated burden cost of $52,202 and an estimated cost of $0 for non-burden hour paperwork costs, e.g., investment or maintenance and operational costs.

Changes in the estimates from the last approval: The renewal of this ICR will result in an overall decrease of 4,939 hours in the total estimated respondent burden identified in the currently approved ICR. This decrease reflects EPA's updating of burden estimates for this collection based upon the assumption that products existing prior to the 2015 Final Rule's compliance date of February 26, 2019, will have met the requirements of the rule update. This ICR now accounts for those products that are considered new to the market after the compliance date. Based on these assumptions, the number of labeling responses per year has decreased from 386 to 87, with a corresponding decrease in the associated burden. This change is an adjustment.

V. What is the next step in the process for these ICRs?

EPA will consider the comments received and amend the individual ICRs as appropriate. The final ICR packages will then be submitted to OMB for review and approval pursuant to 5 CFR 1320.12. EPA will issue another Federal Register document pursuant to 5 CFR 1320.5(a)(1)(iv) to announce the submission of these ICRs to OMB and the opportunity for the public to submit additional comments for OMB consideration. If you have any questions about any of these ICRs or the approval process in general, please contact the person listed under FOR FURTHER INFORMATION CONTACT.

Authority: 44 U.S.C. 3501 et seq.

Dated: April 18, 2018.
Charlotte Bertrand,
Acting Principal Deputy Assistant Administrator, Office of Chemical Safety and Pollution Prevention.

[FR Doc. 2018-11573 Filed 5-29-18; 8:45 am]

BILLING CODE 6560-50-P